DEPARTMENT OF COMMERCE

National Oceanic and Atmospheric Administration

[I.D. 081406A]

Atlantic Highly Migratory Species; Meeting of Consolidated Atlantic Highly Migratory Species Advisory Panel

AGENCY: National Marine Fisheries Service (NMFS), National Oceanic and Atmospheric Administration (NOAA), Commerce.

ACTION: Notice of public meetings.

SUMMARY: NMFS will hold a two-day Highly Migratory Species (HMS) Advisory Panel (AP) meeting in October 2006. The intent of the meeting is to consider options for the conservation and management of HMS.

DATES: The AP meeting will be held from 1 p.m. to 5 p.m. on Tuesday, October 3, 2006, and from 8 a.m. to 5 p.m. on Wednesday, October 4, 2006.

ADDRESSES: The meetings will be held at the Hilton Mark Center, 5000 Seminary Road, Alexandria, VA, 22311; phone: 703-845-1010

FOR FURTHER INFORMATION CONTACT: Othel Freeman or Chris Rilling at 301-713-2347.

SUPPLEMENTARY INFORMATION: The Magnuson-Stevens Fishery Conservation and Management Act (Magnuson-Stevens Act), 16 U.S.C. 1801 et seq., as amended by the Sustainable Fisheries Act, Public Law 104-297, provided for the establishment of an AP to assist in the collection and evaluation of information relevant to the development of any Fishery Management Plan (FMP). NMFS consults with and considers the comments and views of AP members when preparing and implementing FMPs or FMP amendments for Atlantic tunas, swordfish, billfish, and sharks. The AP has previously consulted with NMFS on: the HMS FMP (April 1999), Amendment 1 to the HMS FMP (December 2003), Amendment 1 to the Billfish FMP (April 1999), and the Consolidated Atlantic HMS FMP in February 2006. The October 2006 AP meeting will focus on conservation and management options for Atlantic tunas, swordfish, billfish, and sharks.

Special Accommodations

This meeting is physically accessible to people with disabilities. Requests for sign language interpretation or other auxiliary aids should be directed to Othel Freeman or Chris Rilling at (301) 713-2347, at least 7 days prior to the meeting.

Authority: 16 U.S.C. 971 et seq. and 1801 et seq.

Dated: August 24, 2006.
James P. Burgess,
Acting Director, Office of Sustainable Fisheries, National Marine Fisheries Service.

[FR Doc. 06-7262 Filed 8-25-06; 2:36 pm]

BILLING CODE 3510-22-S